DEPARTMENT OF ENERGY

Federal Energy Regulatory Commission

[Docket No. CP05-92-000]

Liberty Gas Storage, L.L.C.; Notice of Intent To Prepare an Environmental Assessment for the Proposed Liberty Gas Storage Project and Request for Comments on Environmental Issues

May 18, 2005.

The staff of the Federal Energy Regulatory Commission (FERC or Commission) will prepare an environmental assessment (EA) that will discuss the environmental impacts of the proposed Liberty Gas Storage Project which involves the construction and operation of facilities by Liberty Gas Storage L.L.C. (Liberty) in Calcasieu and Beauregard Parishes, Louisiana.¹ These facilities would consist of two natural gas storage caverns; four injection/withdrawal wells, two compressor stations, approximately 24.6 miles of various diameter pipelines and four meter/regulator stations.

¹ Liberty's application was filed with the Commission under section 7 of the Natural Gas Act and Part 157 of the Commission's regulations.

This notice announces the opening of the scoping period that will be used to gather environmental input from the public and interested agencies on the project. Please note that the scoping period will close on June 20, 2005.

This notice is being sent to potentially affected landowners; federal, state, and local government agencies; elected officials; environmental and public interest groups; Native American Tribes, other interested parties; local libraries and newspapers. State and local government representatives are asked to notify their constituents of this planned project and encourage them to comment on their areas of concern.

If you are a landowner receiving this notice, you may be contacted by a Liberty representative about the acquisition of an easement to construct, operate, and maintain the proposed facilities. The pipeline company would seek to negotiate a mutually acceptable agreement. However, if the project is approved by the Commission, that approval conveys with it the right of eminent domain. Therefore, if easement negotiations fail to produce an agreement the pipeline company could initiate condemnation proceedings in accordance with state law.

A fact sheet prepared by the FERC entitled “An Interstate Natural Gas Facility On My Land? What Do I Need To Know?” was attached to the project notice Liberty provided to landowners. This fact sheet addresses a number of typically asked questions, including the use of eminent domain and how to participate in the Commission's proceedings and is available for viewing on the FERC Internet Web site at http://www.ferc.gov.

Summary of the Proposed Project

According to Liberty, the purpose of the Project is to provide additional natural gas storage services to local gas distributors, power generators, pipeline shippers, gas marketers and existing and proposed liquefied natural gas (LNG) terminals.

Liberty proposes to:

• Convert two existing salt dome caverns currently used for brine solution mining in Calcasieu Parish, Louisiana to natural gas storage caverns;

• Convert two existing brine extraction wells into natural gas injection/withdrawal wells;

• Construct two additional natural gas injection/withdrawal wells;

• Construct a 1.3-mile-long 20-inch-diameter pipeline connecting the converted storage caverns to a new on-site compressor station;

• Construct from the on-site compressor station a new 23.3-mile-long 30-inch-diameter pipeline that would interconnect with existing pipeline facilities in Beauregard Parish, Louisiana;

• Construct a remote compressor station in Beauregard Parish; and

• Construct four new meter/regulator stations along the 30-inch-diameter pipeline.

The on site compressor station would have approximately 17,650 HP of natural gas fueled compression. The remote compressor station would have approximately 9,470 HP of natural gas fueled compression. The project would have a total natural gas storage capacity of approximately 23.4 billion cubic feet (Bcf).

The location of the project facilities is shown in Appendix 1.²

² The appendices referenced to in this notice will not be printed in the Federal Register. Copies of all appendices with the exception of appendix 1 (maps), are available on the Commission's website via the “eLibrary” link or from the Commission's Public Reference Room, 888 First Street, NE., Washington, DC 20426, or by calling (202) 502-8371. For instructions on connecting to eLibrary refer to the last page of this notice. Copies of the appendices were sent to all those receiving this notice in the mail.

Nonjurisdictional Facilities

Entergy Corporation would construct, own and operate a non-jurisdictional 1.2-mile-long 7.2/12.5 kilovolt distribution line entirely within the proposed 30-inch-diameter pipeline construction right-of-way. This distribution line would connect the remote compressor station to available electrical service.

Land Requirements for Construction

Construction of the proposed facilities would affect approximately 341.46 acres of land. Following construction, approximately 173.34 acres of land would be maintained as new aboveground facility sites and right-of-way. The remaining 168.12 acres of land would be restored and allowed to revert to its former use.

The EA Process

We ³ are preparing this EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. By this notice, we are also asking federal, state, and local agencies with jurisdiction and/or special expertise with respect to environmental issues to formally cooperate with us in the preparation of the EA. Agencies that would like to request cooperating status should follow the instructions for filing comments below.

³ “We”, “us”, and “our” refer to the environmental staff of the Office of Energy Projects (OEP).

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

Currently Identified Environmental Issues

In the EA, we will discuss impacts that could occur as a result of the construction and operation of the project. We will also evaluate possible alternatives to the proposed project or portions of the project.

We have already identified several issues that we think deserve attention based on a preliminary review of the proposed facilities and the environmental information provided by Liberty. This preliminary list of issues may be changed based on your comments and our analysis.

• Endangered and threatened species: The federally endangered Red-cockaded Woodpecker and the federally threatened Bald Eagle may occur in the proposed project area.

• Wetlands: Approximately 40.9 acres of wetlands (including forested, scrub-shrub, emergent and “mosaic”) would be affected during project construction and approximately 24.8 acres of wetlands would be permanently affected by project operation.

• Water resources: 19 waterbodies would be crossed by the proposed 30-inch-diameter pipeline.

• Land use: Two residences are located within 50 feet of the proposed 30-inch-diameter pipeline.

• Soils: Approximately 20.9 acres of prime farm land would be removed from potential agricultural use.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP05-92-000.

• Mail your comments so that they will be received in Washington, DC on or before June 20, 2005.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created online.

If you do not want to send comments at this time but still want to remain on our mailing list, please return the Information Request (Appendix 4). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 3, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E5-2608 Filed 5-24-05; 8:45 am]

BILLING CODE 6717-01-P